DEPARTMENT OF AGRICULTURE

Forest Service

Bitterroot National Forest Noxious Weed Environmental Impact Statement

AGENCY: Forest Service, USDA.

ACTION: Notice of intent to prepare an Environmental Impact Statement.

SUMMARY: The USDA, Forest Service is gathering information and preparing an Environmental Impact Statement (EIS) for a forest wide noxious weed management program. The intent of this program is to deter the establishment, and control the spread of existing noxious weeds on portions of the Bitterroot National Forest, with special consideration given to the areas affected by the 2000 fire season. The methods of weed management would include mechanical, biological, vegetative, innovative grazing, ground and aerial herbicide applications. Methods of management will be evaluated based on environmental and wilderness restrictions, and based on site characteristics to ensure weed management activities are as successful as possible. Treatment areas would include big game summer and winter range and adjacent burned areas, roads, trails, trailheads, administrative sites, and other emphasis areas. The total treated area will encompass between 15,000 and 20,000 acres. This project will also include pre and post treatment monitoring and follow up treatments for a period of 10 to 15 years.

DATES: Comments concerning the scope of this project should be received by the Sula Ranger District, Bitterroot National Forest by May 15, 2001.

ADDRESSES: Please send written comments to: Sula Ranger District, Bitterroot National Forest; Attn: Forest Weed EIS; 7338 Highway 93 South; Sula, MT 59871.

FOR FURTHER INFORMATION CONTACT: Craig Bobzien, Darby/Sula District Ranger, telephone: (406) 821-3201, or Frank Guzman, Forest Weed EIS Team Leader, Sula Ranger District, 7338 Highway 93 South, Sula, MT 59871, telephone (406) 821-3201, email: fguzman@fs.fed.us

SUPPLEMENTARY INFORMATION: This project will encompass portions of the Bitterroot National Forest, and complete analysis is expected by mid February 2002. Special concerns have risen within the perimeters of the 2000 wildfires because of the anticipated increase of noxious weeds due to the loss of canopy coverage, competitive native vegetation, and the increased ground disturbance. Noxious weeds are a problem of the past, present, and future. A shift from timber, shrubs, and bunchgrass vegetation to noxious weeds will cause a decrease in wildlife forage, reduction of species diversity, increased soil erosion, a decline in soil productivity, and a long term increase in overland flow, due to a decrease in surface cover. This analysis will focus on restoring native species and wildlife habitat while reducing runoff and erosion by controlling the spread of existing weeds and preventing the establishment of new weed species.

Public participation will be an integral component of the study process, and will be especially important at several points during the analysis. The first is during the scoping process. The Forest Service will be seeking information, comments and assistance from federal, State, County, and local agencies, individuals and organizations that may be interested in or affected by the proposed activities. The scoping process will include: (1) Identification of potential issues, (2) identification of issues to be analyzed in depth, and (3) elimination of insignificant issues or those which have been covered by a previous environmental review. Written scoping comments will be solicited through a scoping package that will be sent to the project mailing list and local newspapers. For the Forest Service to best use the scoping input, comments should be received by May 31, 2001. Preliminary issues identified for analysis in the EIS include the potential effects and relationship of the project to human health risk, water quality, fisheries and native plant communities, wildlife habitat, soil productivity, recreation, scenery, heritage resources, sensitive plants.

Based on the results of scoping and the resource conditions within the project area, alternatives (including a no-action alternative) will be developed for the draft EIS. The draft EIS is projected to be filed with the Environmental Protection Agency (EPA) in September 2001. The final EIS is anticipated in February 2002.

The comment period on the draft EIS will be 45 days from the date that the EPA publishes the notice of availability in the Federal Register.

At this early stage, the Forest Service believes it is important to give reviewers notice of several court rulings related to public participation in the environmental review process. First, reviewers of draft EIS's must structure their participation in the environmental review of the proposal, so that it is meaningful and alerts an agency to the reviewer's position and contentions. Vermont Yankee Nuclear Power Corp. v. NRDC, 435 U.S. 519, 553, (1978). Also, environmental objections that could have been raised at the draft EIS stage, but that are not raised until the completion of the final EIS, may be waived or dismissed by the courts. City of Angoon v. Hodel, 803 F.2nd 1016, 1022 (9th Cir. 1986) and Wisconsin Heritages, Inc. v. Harris, 490 F. Supp, 1334, 1338 (E.D. Wis. 1980). Because of these court rulings, it is very important that those interested in this proposed action participate by the close of the 45-day comment period on the draft EIS, so that substantive comments and objections are made available to the Forest Service at a time when they can be meaningfully considered and respond to them in the final EIS.

To assist the Forest Service in identifying and considering issues and concerns of the proposed action, comments on the draft EIS should be as specific as possible. It is also helpful if comments refer to specific pages or chapters of the draft statement. Comments may address the adequacy of the draft EIS, or the merits of the alternatives formulated and discussed in the statement. Reviewers may wish to refer to the Council on Environmental Quality Regulations for implementing the procedural provisions of the National Environmental Policy Act in 40 CFR 1503.3, in addressing these points.

Permits/Authorizations: The proposed action will not require any site-specific amendments to the Bitterroot Forest Plan.

Responsible Official: Rodd Richardson, Forest Supervisor, Bitterroot National Forest, is the responsible official. In making the decision, the responsible official will consider the comments; responses; disclosure of environmental consequences; and applicable laws, regulations, and policies. The responsible official will state the rationale for the chosen alternative in the Record of Decision.

Dated: April 5, 2001.
Rodd Richardson,
Forest Supervisor.

[FR Doc. 01-9776 Filed 4-19-01; 8:45 am]

BILLING CODE 3410-11-M